DEPARTMENT OF HEALTH AND HUMAN SERVICES

Meeting of the Chronic Fatigue Syndrome Advisory Committee

AGENCY: Department of Health and Human Services, Office of the Secretary, Office of the Assistant Secretary for Health.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Wednesday, May 22, 2013, and Thursday, May 23, 2013, from 9:00 a.m. until 5:00 p.m.

ADDRESSES: Department of Health and Human Services; Hubert H. Humphrey Building; 200 Independence Avenue SW., Room 800; Washington, DC 20201. For a map and directions to the Hubert H. Humphrey building, please visit http://www.hhs.gov/about/hhhmap.html.

FOR FURTHER INFORMATION CONTACT: Nancy C. Lee, M.D., Designated Federal Officer, Chronic Fatigue Syndrome Advisory Committee, Department of Health and Human Services, 200 Independence Avenue SW., Room 712E, Washington, DC 20201. Any questions about meeting registration or public comment sign-up should be directed to CFSACMay2013@seamoncorporation.com. Please direct other inquiries to cfsac@hhs.gov.

SUPPLEMENTARY INFORMATION: CFSAC was established on September 5, 2002, to advise, consult with, and make recommendations to the Secretary, through the Assistant Secretary for Health, on a broad range of topics including: (1) The current state of knowledge and research and the relevant gaps in knowledge and research about the epidemiology, etiologies, biomarkers, and risk factors relating to CFS, and identifying potential opportunities in these areas; (2) impact and implications of current and proposed diagnosis and treatment methods for CFS; (3) development and implementation of programs to inform the public, health care professionals, and the biomedical academic and research communities about CFS advances; and (4) partnering to improve the quality of life of CFS patients.

The agenda for this meeting is being developed and will be posted on the CFSAC Web site, http://www.hhs.gov/advcomcfs when finalized. The meeting will be live-video streamed at www.HHS.gov/Live and archived through the CFSAC Web site: www.hhs.gov/advocomcfs. Listening-only audio via telephone will be available on both days. Call-in information will be posted on the CFSAC Web site.

Individuals who plan to attend should register at the following link by May 17, 2013: http://www.blsmeetings.net/CFSACMay2013. Attendance by visitors who are not U.S. citizens is welcome, but prior approval is required by sending a request to CFSACMay2013@seamoncorporation.com before May 8, 2013. Members of the media will also need to register. All attendees will be required to show government-issued picture identification (state or federal) for entry into a federal building. Attendees will receive a wrist band that must be worn the entire time. Security requires all non-federal employees to be escorted the entire time they are in the building. Upon leaving the building for any reason, all persons will be required to follow the security steps mentioned above and receive a new wrist band.

Members of the public will have the opportunity to provide public comment at the meeting or via telephone. International calls cannot be accommodated. You are no longer required to submit a written copy of your testimony as in past years unless you wish to have it included in the public record. Individuals wishing to submit public comment for public record must send an electronic copy of their testimony in advance to: CFSACMay2013@seamoncorporation.com by Wednesday, May 15, 2013. A separate sign-up process for requesting time for public comment must be completed by Wednesday, May 15, 2013 at the following link: http://www.blsmeetings.net/CFSACPublicCommentMay2013. An email to acknowledge receipt of the request for public comment will be sent from this email address. The document for public record must not exceed 5 single-spaced, typed pages, using a 12-point typeface; it is preferred that the document be prepared in the MSWord format. Please note that PDF files, handwritten notes, charts, and photographs that are submitted for distribution to the Committee will not be posted on the CFSAC Web site. However, this material will be made available for the public to view on site during the dates that the meeting is being conducted. Individuals who wish to view this material after the meeting should contact the CFSAC DFO, whose contact information is included in this Federal Register notice. Requests to participate in the public comment and provide written testimony will not be accepted through the CFSAC mailbox. Also, the CFSAC mailbox will not respond to questions about specific public comment requests. These requests and/or inquiries should be directed to CFSACMay2013@seamoncorporation.com.

Only testimony submitted for public record and received in advance of the meeting are part of the official meeting record and will be posted to the CFSAC Web site. Materials submitted should not include sensitive personal information, such as social security number, birthdates, driver's license number, state identification or foreign country equivalent, passport number, financial account number, or credit or debit card number. If you wish to remain anonymous the document must specify this.

We will confirm your time for public comment via email by May 17, 2013. Each speaker will be limited to five minutes per speaker; no exceptions will be made. We will give priority to individuals who have not provided public comment within the previous year.

Persons who wish to distribute printed materials to CFSAC members should submit one copy for approval to the Designated Federal Officer at cfsac@hhs.gov, prior to Friday, May 17, 2013.

Dated: April 15, 2013.
Nancy C. Lee,
Designated Federal Officer, Chronic Fatigue Syndrome Advisory Committee.

[FR Doc. 2013-10083 Filed 4-29-13; 8:45 am]

BILLING CODE 4150-42-P